Title 3—

The President

Proclamation 9930 of September 19, 2019

National POW/MIA Recognition Day, 2019

By the President of the United States of America

A Proclamation

Our American story is filled with countless examples of patriots who have gone beyond the call of duty to defend our precious liberties and cherished freedoms. National POW/MIA Recognition Day is an opportunity for our Nation to honor the intrepid spirit and admirable bravery of all former American prisoners of war, while also reaffirming our promise never to relent in our quest to locate the Soldiers, Sailors, Marines, Airmen, Coast Guardsmen, Merchant Marines, and civilians who remain missing in action.

Seventy-five years ago, more than 150,000 American and Allied troops took part in the D-Day invasion on the beaches of Normandy. Among the stalwart heroes who helped alter history for the betterment of humankind on the morning of June 6, 1944, are 261 American service members missing in action. Their immeasurable sacrifice will forever be preserved in the hearts of those who continue to enjoy the hard-earned blessings of peace and prosperity.

As Americans, it is our sacred duty to pay tribute to the brave men and women of our Armed Forces for their service and sacrifice, especially those who endured unimaginable physical and emotional trauma as prisoners of war and those who never returned to American soil. It is also our solemn obligation never to leave a service member behind. My Administration is dedicated to locating and identifying the more than 81,000 American service members unaccounted for—many of whom were former prisoners of war—to help alleviate the grieving and prolonged uncertainty of their families. We vow to pursue the fullest possible accounting of these gallant patriots.

On September 20, 2019, the black and white flag symbolizing America's Missing in Action and Prisoners of War will be flown over the White House; the United States Capitol; the Departments of State, Defense, and Veterans Affairs; the Selective Service System Headquarters; the World War II Memorial; the Korean War Veterans Memorial; the Vietnam Veterans Memorial; United States post offices; national cemeteries; and other locations across our country. Our Nation salutes our former prisoners of war, and we show reverence to the service members who remain missing in action and to their waiting families. America will always preserve their legacy.

NOW, THEREFORE, I, DONALD J. TRUMP, President of the United States of America, by virtue of the authority vested in me by the Constitution and the laws of the United States, do hereby proclaim September 20, 2019, as National POW/MIA Recognition Day. I call upon the people of the United States to join me in saluting all American POWs and those missing in action who valiantly served our country. I call upon Federal, State, and local government officials and private organizations to observe this day with appropriate ceremonies and activities.

IN WITNESS WHEREOF, I have hereunto set my hand this nineteenth day of September, in the year of our Lord two thousand nineteen, and of the Independence of the United States of America the two hundred and forty-fourth.

[FR Doc. 2019-20980

Filed 9-24-19; 11:15 am]

Billing code 3295-F9-P